DEPARTMENT OF HEALTH AND HUMAN SERVICES

National Institutes of Health

National Cancer Institute; Amended Notice of Meeting

Notice is hereby given of a change in the meeting of the National Cancer Advisory Board, February 8, 2010, 6:30 p.m. to February 10, 2010, 12 p.m., National Institutes of Health, Building 31, 31 Center Drive, Bethesda, MD 20892 which was published in the Federal Register on January 7, 2010, 75 FR 992-993.

This Federal Register Notice is being amended to change the open session times on February 9, 2010 to 8 a.m. to 3:30 p.m. instead of 8:30 a.m. to 4:30 p.m. and the closed session times to 3:30 p.m. to 5 p.m. instead of 4:30 p.m. to 5:30 p.m. Also, the open session start time on February 10, 2010 has been changed to 8 a.m. instead of 8:30 a.m.

Dated: January 19, 2010.
Jennifer Spaeth,
Director, Office of Federal Advisory Committee Policy.

[FR Doc. 2010-1406 Filed 1-25-10; 8:45 am]

BILLING CODE 4140-01-P